DEPARTMENT OF VETERANS AFFAIRS

Veterans' Advisory Committee on Education

Notice of Meeting

The Department of Veterans Affairs (VA) gives notice under the Federal Advisory Committee Act, 5 U.S.C. App. 2, that the Veterans' Advisory Committee on Education will meet on March 18-19, 2015, at the JW Marriot Washington, DC, located at 1331 Pennsylvania Avenue NW., Washington, DC 20004, from 8:00 a.m. to 5:00 p.m. on both days. The meeting is open to the public.

The purpose of the Committee is to advise the Secretary of Veterans Affairs on the administration of education and training programs for Veterans, Servicepersons, Reservists, and Dependents of Veterans under Chapters 30, 32, 33, 35, and 36 of title 38, and Chapter 1606 of title 10, United States Code.

The purpose of the meeting is to assist in the evaluation of existing GI Bill programs and services; review recent legislative and administrative changes to GI Bill benefits; and submit their recommendations to the Secretary.

On March 18th, the Committee will receive presentations about the administration of VA's education and training programs. Oral statements will be heard from 3:45 p.m. to 4:30 p.m.

On March 19th, the Committee will review and summarize issues raised throughout the meeting and discuss committee work groups and next steps.

The public may submit written statements for the Committee's review to Mr. Barrett Y. Bogue, Designated Federal Officer, Department of Veterans Affairs, Veterans Benefits Administration (223D), 810 Vermont Avenue NW., Washington, DC 20420, via or email at Barrett.Bogue@va.gov. Any member of the public wishing to attend the meeting or seeking additional information should contact Mr. Bogue at (202) 461-9800.

Dated: February 12, 2015.
Jelessa Burney,
Federal Advisory Committee Management Officer.

[FR Doc. 2015-03243 Filed 2-17-15; 8:45 am]

BILLING CODE 8320-01-P